DEPARTMENT OF ENERGY

Federal Energy Regulatory Commission

[Project No. 2392-041]

Ampersand Gilman Hydro, LP; Notice of Reasonable Period of Time for Water Quality Certification Application

On January 24, 2025, the Vermont Department of Environmental Conservation (Vermont DEC) submitted to the Federal Energy Regulatory Commission (Commission) notice that it received a request for a Clean Water Act section 401(a)(1) water quality certification as defined in 40 CFR 121.5, from Ampersand Gilman Hydro, LP, in conjunction with the above captioned project on January 24, 2025. Pursuant to section 4.34(b)(5) of the Commission's regulations,¹ we hereby notify Vermont DEC of the following:

¹ 18 CFR 4.34(b)(5).

Date of Receipt of the Certification Request: January 24, 2025.

Reasonable Period of Time to Act on the Certification Request: One year, January 24, 2026.

If Vermont DEC fails or refuses to act on the water quality certification request on or before the above date, then the certifying authority is deemed waived pursuant to section 401(a)(1) of the Clean Water Act, 33 U.S.C. 1341(a)(1).

Dated: January 29, 2025.
Debbie-Anne A. Reese,
Secretary.

[FR Doc. 2025-02227 Filed 2-4-25; 8:45 am]

BILLING CODE 6717-01-P